DEPARTMENT OF HOUSING AND URBAN DEVELOPMENT

[Docket No. FR-5681-N-26]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, Room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert Moore, Air Force Real Property Agency, 2261 Hughes Avenue, Suite 156, Lackland AFB, TX 78236-9852, (210) 395-9512; (This is not a toll-free number).

Dated: June 20, 2013.
Mark Johnston,
Deputy Assistant Secretary for Special Needs.

TITLE V, FEDERAL SURPLUS PROPERTY PROGRAM FEDERAL REGISTER REPORT FOR 06/28/2013

Suitable/Available Properties

Building

Colorado

Building 304

Cheyenne Mountain AFS

Colorado Springs CO 80914

Landholding Agency: Air Force

Property Number: 18201320040

Status: Underutilized

Comments: Off-site removal only; no future AF need; 960 sf; mailroom; good conditions; secured area, contact AF for more info.

6 Buildings

GJKZ

Fairchild AFB CO 99011

Landholding Agency: Air Force

Property Number: 18201320042

Status: Underutilized

Directions: 1478, 1479, 1480,1482,1483,1484

Comments: Off-site removal only; no future AF need; sf. varies; w/inactive military installation; contact AF for removal/accessibility requirements

Iowa

Building 310

1500 Perimeter Rd.

Sioux City IA 51111

Landholding Agency: Air Force

Property Number: 18201320070

Status: Excess

Comments: 7,575 sf.; munitions maint./admin.; 24+ months vacant; adequate conditions; secured area; escort required each time to access property; contact AF for more info.

Building 114

1649 Nelson Ave.

Ft. Dodge IA 50501

Landholding Agency: Air Force

Property Number: 18201320071

Status: Excess

Comments: 300 sf.; gym; 2+ months vacant; adequate conditions; secured area; escort required each time to access property; contact AF for more info.

Building 314

1500 Perimeter Ave.

Sioux City IA 51111

Landholding Agency: Air Force

Property Number: 18201320074

Status: Excess

Comments: 2,350 sf.; munitions storage/maint.; 24+ months vacant; adequate conditions; secured area; escort required to access property each time; contact AF for more info.

Building 313

1500 Perimeter Rd.

Sioux City IA 51111

Landholding Agency: Air Force

Property Number: 18201320075

Status: Excess

Comments: 2,220 sf.; munitions storage; adequate conditions; secured area; escort required each time to access property; contact AF for more info.

Building 311

1500 Perimeter Rd.

Sioux City IA 51111

Landholding Agency: Air Force

Property Number: 18201320076

Status: Excess

Comments: 4,595 sf.; munitions maint.; 24 months vacant; adequate conditions; secured area; escort required each time to access property; contact AF for more info.

Building 312

1500 Perimeter Rd.

Sioux City IA 51111

Landholding Agency: Air Force

Property Number: 18201320077

Status: Excess

Comments: 1,685 sf.; munitions storage; adequate conditions; secured area; contact AF for more info.

Louisiana

Building 4143

Barksdale AFB

Barksdale LA 71110

Landholding Agency: Air Force

Property Number: 18201320007

Status: Unutilized

Comments: Off-site removal only, 8,719 sf., auto hobby shop; 1 month vacant secured area, contact AF for more info.

Massachusetts

7 Buildings

Westover ARB

Chicopee MA 01022

Landholding Agency: Air Force

Property Number: 18201320062

Status: Underutilized

Directions: 7701, 7704, 7706, 7707, 2426, 2765, 7700

Comments: Off-site removal only; no future AF need; sf. varies; adequate to very poor conditions; contamination; restricted area; escort required; contact AF for more info.

New Jersey

1932 Disaster Prep

1932 Glenn Road

JBMDL NJ 08641

Landholding Agency: Air Force

Property Number: 18201320015

Status: Underutilized

Comments: Off-site removal only; no future AF need; 5,852 sf; storage; poor secured area, contact AF for more info.

1911 SP Operations

1911 East Fourth Street

JBMDL NJ 08641

Landholding Agency: Air Force

Property Number: 18201320016

Status: Underutilized

Comments: Off-site removal only; 6,432 sf., AF has no future need, office/admin., poor conditions; secured area; contact AF for more info.

9719 Latrine

Range 34, 9720 Range Road

JBMDL NJ 08640

Landholding Agency: Air Force

Property Number: 18201320017

Status: Underutilized

Comments: Off-site removal only; AF has no future need; 285 sf., secured area; contact AF for more info.

9721 Compressor Plant #1

Range 34, 9720 Range Road

JBMDL NJ 08640

Landholding Agency: Air Force

Property Number: 18201320018

Status: Underutilized

Comments: Off-site removal only; AF has no future need; fair conditions; secured area; 63 sf., contact AF for more info.

9726 Compressor Plant #2

Range 34, 9720 Range Road

JBMDL NJ 08640

Landholding Agency: Air Force

Property Number: 18201320019

Status: Underutilized

Comments: Off-site removal only; 112 sf., AF has no future need; fair conditions, secured area; contact AF for more info.

6045 MWR Support

6045 Doughboy Loop

JBMDL NJ 08640

Landholding Agency: Air Force

Property Number: 18201320020

Status: Excess

Comments: Off-site removal only; 4,087 sf.; poor conditions, secured area; contact AF for more info.

1902 Comm Facility

1902 Ammo Road

JBMDL NJ 08641

Landholding Agency: Air Force

Property Number: 18201320021

Status: Underutilized

Comments: Off-site removal only; 25,966 sf.; AF has no future need; storage; poor conditions; secured area; contact AF for more into.

6 Building

JB MDL

JB MDL NJ 08640

Landholding Agency: Air Force

Property Number: 18201320048

Status: Underutilized

Directions: 1911, 9919, 9721, 9726, 1902(zip code 08641) 1932(zip code 08641)

Comments: Off-site removal only, no future AF need; SF varies poor conditions; restricted area contact AF for info. re. accessibility removal tips.

Building 6045

Doughboy Loop

JB MDL NJ 08640

Landholding Agency: Air Force

Property Number: 18201320049

Status: Excess

Comments: Off-site removal only; 4,087 sf.; poor conditions; storage/admin.; secured area; contact AF for more info.

Oklahoma

Building 1100

7492 Patrol Road

Tinker AFB OK 73145

Landholding Agency: Air Force

Property Number: 18201320024

Status: Underutilized

Comments: Off-site removal only; no future AF need; 5,471 sf.; maint. facility; fair/poor condition; controlled AF installation, contact AF for more info.

Building 944

4600 Air Depot Blvd.

Tinker AFB OK 73145

Landholding Agency: Air Force

Property Number: 18201320026

Status: Underutilized

Comments: Off-site removal only; no future AF need; 2,400 sf.; warehouse; fair/poor condition; controlled AF installation; contact AF for info. re: accessibility/removal

Puerto Rico

Muniz IAP

200 JoséA (Tony) Santana Ave.

Carolina PR 09879

Landholding Agency: Air Force

Property Number: 18201320069

Status: Unutilized

Comments: 755 sf.; potable water storage & pump house; poor conditions; secured area; escort required to access property; contact AF for more info.

South Carolina

2 Building

Shaw AFB

Sumter SC 29152

Landholding Agency: Air Force

Property Number: 18201320054

Status: Unutilized

Directions: 1036, 1826

Comments: Off-site removal only; no AF future need; sf. varies; poor conditions; secured area, contact AF for more info.

4 Buildings

Shaw AFB

Sumter SC 29152

Landholding Agency: Air Force

Property Number: 18201320055

Status: Underutilized

Directions: 1027, 1028, 2451, 1034

Comments: Off-site removal only; no AF future need; sf. varies; poor conditions; secured area; contact AF for more info.

Unsuitable Properties

Building

Alabama

Building 27, Heating Facility

323 Kirkpatrick Avenue

Maxwell AFB AL 36112

Landholding Agency: Air Force

Property Number: 18201320013

Status: Unutilized

Comments: Public access denied & no alternative method to gain access w/out compromising nat'l security. w/out compromising nat'l sec.

Reasons: Secured Area

Buildings 1450 & 1451

320 Chennault Circle

Maxwell AFB AL 36112

Landholding Agency: Air Force

Property Number: 18201320008

Status: Underutilized

Comments: Public access denied & no alternative method to gain access w/out compromising nat'l security. method w/out compromising nat'l sec.

Reasons: Secured Area

Building 1411, Visiting Airman

635 McDonnell Street

Maxwell AFB AL 36114

Landholding Agency: Air Force

Property Number: 18201320009

Status: Underutilized

Comments: Public access denied & no alternative method to gain access w/out compromising nat'l security.

Reasons: Secured Area

3 Buildings

Maxwell AFB, Gunter Annex

Maxwell AFB AL 36114

Landholding Agency: Air Force

Property Number: 18201320010

Status: Underutilized

Directions: 1014, 1015, 1016

Comments: Public access denied & no alternative method to gain access w/out compromising nat'l security.

Reasons: Secured Area

Building 26, Theater

325 Kirkpatrick Avenue

Maxwell AFB AL 36112

Landholding Agency: Air Force

Property Number: 18201320011

Status: Unutilized

Comments: Public access denied & no alternative method to gain access w/out compromising nat'l security.

Reasons: Secured Area

Building 122, Military Family

321 Hickory Street

Maxwell AFB AL 36112

Landholding Agency: Air Force

Property Number: 18201320012

Status: Underutilized

Comments: Public access denied & no alternative method to gain access w/out compromising nat'l security.

Reasons: Secured Area

4 Facilities

20 Kelly Street

Maxwell AFB AL 36112

Landholding Agency: Air Force

Property Number: 18201320014

Status: Excess

Directions: 1073, 1074, 1075, 1076

Comments: Public access denied & no alternative method to gain access w/out compromising nat'l security.

Reasons: Secured Area

Alaska

Building 3 & 21

Flaxman Island

Flaxman Island AK

Landholding Agency: Air Force

Property Number: 18201320030

Status: Excess

Comments: Public access denied & no alternative method to gain access w/out compromising nat'l security.

Reasons: Secured Area

10 Buildings

Flaxman Island

Flaxman Island AK

Landholding Agency: Air Force

Property Number: 18201320031

Status: Excess

Directions: 22, 23, 24, 41, 44, 4, 5, 100, 101, 105

Comments: Public access denied & no alternative method to gain access w/out compromising nat'l security.

Reasons: Secured Area

Arizona

2 Buildings

Davis Monahan AFB

Tucson AZ 85707

Landholding Agency: Air Force

Property Number: 18201320027

Status: Underutilized

Directions: 206, 207

Comments: Located on a gated entry controlled military base, Public access denied & no alternative method to gain access w/out compromising nat'l security.

Reasons: Secured Area

3 Building

Davis Monahan AFB

Tucson AZ 85707

Landholding Agency: Air Force

Property Number: 18201320060

Status: Underutilized

Directions: 5315,206,207

Comments: Public access denied & no alternative method to gain access w/out compromising nat'l security.

Reasons: Secured Area

California

West Wing Education Center

144 Wyoming Ave.

Vandenberg CA 93437

Landholding Agency: Air Force

Property Number: 18201320061

Status: Underutilized

Directions: 10 Buildings; 14001-14010

Comments: Public access denied & no alternative method to gain access w/out compromising nat'l security.

Reasons: Secured Area

Colorado

Building 1615

1390 S. Chucara Street

Aurora CO 80011

Landholding Agency: Air Force

Property Number: 18201320028

Status: Unutilized

Comments: Public access denied & no alternative method to gain access w/out compromising nat'l security.

Reasons: Secured Area

Florida

Building 90911

3 Hume Drive

Hurlburt Field FL 32544

Landholding Agency: Air Force

Property Number: 18201320032

Status: Unutilized

Comments: Public access denied & no alternative method to gain access w/out compromising nat'l security.

Reasons: Secured Area

5 Building

MacDill AFB

MacDill AFB FL 33621

Landholding Agency: Air Force

Property Number: 18201320051

Status: Underutilized

Directions: 827, 826, 694, 550, 13

Comments: Not accessible to public; Public access denied & no alternative method to gain access w/out compromising nat'l security.

Reasons: Secured Area

3 Building

MacDill AFB

MacDill AFB FL 33621

Landholding Agency: Air Force

Property Number: 18201320052

Status: Underutilized

Directions: 1107, 65, 60

Comments: Not accessible to public; Public access denied & no alternative method to gain access w/out compromising nat'l security.

Reasons: Secured Area

Building 90716

415 Independence Rd.

Hurlburt Field FL 32544

Landholding Agency: Air Force

Property Number: 18201320063

Status: Underutilized

Comments:

Comments: Public access denied & no alternative method to gain access w/out compromising nat'l security.

Reasons: Secured Area

2 Buildings

MacDill AFB

MacDill AFB FL 33671

Landholding Agency: Air Force

Property Number: 18201320065

Status: Unutilized

Directions: 1153, 1271

Comments: Public access denied & no alternative method to gain access w/out compromising nat'l security.

Reasons: Secured Area

Georgia

Facility 123, XDQU

1401 Robert B. Miller Jr. Drive

Garden City GA 31408

Landholding Agency: Air Force

Property Number: 18201320050

Status: Unutilized

Directions: Savannah Hilton Head Intern `l Airport

Comments: Public access denied & no alternative method to gain access w/out compromising nat'l security.

Reasons: Secured Area

Hawaii

3 Building

Malama Bay Drive

JBPHH HI 96853

Landholding Agency: Air Force

Property Number: 18201320053

Status: Unutilized

Directions: 3402, 3404, 3400

Comments: Restricted area, Comments: Public access denied & no alternative method to gain access w/out compromising nat'l security.

Reasons: Secured Area

Illinois

2 Buildings

Scott AFB

Scott AFB IL 62225

Landholding Agency: Air Force

Property Number: 18201320029

Status: Unutilized

Directions: 3270, 4900

Comments: High security active duty installation; Public access denied & no alternative method to gain access w/out compromising nat'l security.

Reasons: Secured Area

Louisiana

7 Buildings

Kenny Ave.

Barksdale AFB LA 71110

Landholding Agency: Air Force

Property Number: 18201320005

Status: Underutilized

Directions: 4421, 4423, 4427, 4431, 4432, 4433, 4434

Comments:

Comments: Public access denied & no alternative method to gain access w/out compromising nat'l security.

Reasons: Secured Area

4 Buildings

Kenny Ave.

Barksdale AFB LA 71110

Landholding Agency: Air Force

Property Number: 18201320006

Status: Underutilized

Directions: 4412, 4414, 4133, 4134

Comments:

Comments: Public access denied & no alternative method to gain access w/out compromising nat'l security.

Reasons: Secured Area

Building 4161

460 Billy Mitchell Ave.

Barksdale AFB LA 71110

Landholding Agency: Air Force

Property Number: 18201320034

Status: Underutilized

Comments:

Comments: Public access denied & no alternative method to gain access w/out compromising nat'l security.

Reasons: Secured Area

Building 4401

743 Kenny Ave.

Barksdale AFB LA 71110

Landholding Agency: Air Force

Property Number: 18201320035

Status: Excess

Comments:

Comments: Public access denied & no alternative method to gain access w/out compromising nat'l security.

Reasons: Secured Area

Building 4411

Kenny Ave.

Barksdale AFB LA 71110

Landholding Agency: Air Force

Property Number: 18201320036

Status: Unutilized

Comments:

Comments: Public access denied & no alternative method to gain access w/out compromising nat'l security.

Reasons: Secured Area

Maine

Building 421

Bangor Intern `l Airport

Bangor ME 04401

Landholding Agency: Air Force

Property Number: 18201320057

Status: Excess

Comments:

Comments: Public access denied & no alternative method to gain access w/out compromising nat'l security.

Reasons: Secured Area

Building 495

104 Glenn Ave.

Bangor ME 04401

Landholding Agency: Air Force

Property Number: 18201320059

Status: Excess

Comments:

Comments: Public access denied & no alternative method to gain access w/out compromising nat'l security.

Reasons: Secured Area

Massachusetts

2 Building

50 Maple Street

Milford MA 01757

Landholding Agency: Air Force

Property Number: 18201320056

Status: Excess

Directions: 100 & 101

Comments:

Comments: Public access denied & no alternative method to gain access w/out compromising nat'l security.

Reasons: Secured Area

Nebraska

Building 113

null

Offutt AFB NE 68113

Landholding Agency: Air Force

Property Number: 18201320039

Status: Excess

Comments:

Comments: Public access denied & no alternative method to gain access w/out compromising nat'l security.

Reasons: Secured Area

5 Building

Offutt AFB

Omaha NE 68113

Landholding Agency: Air Force

Property Number: 18201320041

Status: Excess

Directions:

135,139,308,328,404

Comments:

Comments: Public access denied & no alternative method to gain access w/out compromising nat'l security.

Reasons: Secured Area

New Jersey

Bldg. 118 (Hanger 4)

118 Keller Road

JBMDL NJ 08733

Landholding Agency: Air Force

Property Number: 18201320022

Status: Excess

Comments:

Comments: Public access denied & no alternative method to gain access w/out compromising nat'l security.

Reasons: Secured Area

Hanger 4

118 Keller Road

JB MDL NJ 08733

Landholding Agency: Air Force

Property Number: 18201320047

Status: Excess

Comments: Secured military installation, Comments: Public access denied & no alternative method to gain access w/out compromising nat'l security.

Reasons: Secured Area

New Mexico

4 Buildings

Kirtland AFB

Kirtland AFB NM 87117

Landholding Agency: Air Force

Property Number: 18201320037

Status: Unutilized

Directions: 734, 1912, 37529, 37530

Comments: Within a military controlled under heightened security alter area, public access denied & no alternative method to gain access w/out compromising nat'l security.

Reasons: Secured Area

7 Building

Kirkland AFB

Kirkland AFB NM 87117

Landholding Agency: Air Force

Property Number: 18201320038

Status: Underutilized

Directions: 640, 639, 426, 1035, 1103, 954, 1103

Comments: Within a military controlled under heightened security alter area, public access denied & no alternative method to gain access w/out compromising nat'l security.

Reasons: Secured Area

North Dakota

28 Building

JFSD Grand Forks AFB

Grand Folks ND 58205

Landholding Agency: Air Force

Property Number: 18201320043

Status: Unutilized

Directions: 702,727,728,729,730,731,733,726,725,724,723,722,720,719,718,717,715,714,713,712,711,709,708,707,706,705,703,704

Comments: Not accessible to public; public access denied & no alternative method to gain access w/out compromising nat'l security.

Reasons: Secured Area

Ohio

3 Building

Wright-Patterson AFB

WPAFB OH 45433

Landholding Agency: Air Force

Property Number: 18201320058

Status: Unutilized

Directions: 00841, 34020, 34065

Comments: w/insured gov't installation; public access denied & no alter. w/out compromising nat'l sec.

Reasons: Secured Area

Oregon

Building 188

6801 NE Cornfoot Road

Portland OR 97218

Landholding Agency: Air Force

Property Number: 18201320064

Status: Unutilized

Comments: public access denied & no alternative method to gain access w/out compromising nat'l security.

Reasons: Secured Area

Tennessee

Building 131

320 Post Ave. McGhee Tyson

Louisville TN 37777

Landholding Agency: Air Force

Property Number: 18201320045

Status: Unutilized

Comments: Secured military installation; public access denied & no alternative method to gain access w/out compromising nat'l security.

Reasons: Secured Area

Building 13

320 Post Ave. McGhee Tyson

Louisville TN 37777

Landholding Agency: Air Force

Property Number: 18201320046

Status: Excess

Comments: Secured military installation, public access denied & no alternative method to gain access w/out compromising nat'l security.

Reasons: Secured Area

Texas

Building 530

519 I Ave.

Sheppard AFB TX 76311

Landholding Agency: Air Force

Property Number: 18201320044

Status: Underutilized

Comments: Public access denied & no alternative method to gain access w/out compromising nat'l security.

Reasons: Secured Area

Land

New Jersey

7.0 Acres land for training

Rounds & Lansdowne Roads

JBMDL NJ 08733

Landholding Agency: Air Force

Property Number: 18201320023

Status: Excess

Comments: Public access denied & no alternative method to gain access w/out compromising nat'l security.

Reasons: Secured Area

7.0 Acres

Rounds & Lansdowne Roads

JBMDL NJ 08733

Landholding Agency: Air Force

Property Number: 18201320066

Status: Excess

Comments: Secured military installation; public access denied & no alternative method to gain access w/out compromising nat'l security.

Reasons: Secured Area

[FR Doc. 2013-15158 Filed 6-27-13; 8:45 am]

BILLING CODE 4210-67-P